FEDERAL EMERGENCY MANAGEMENT AGENCY

44 CFR Part 67

[Docket No. FEMA-B-7410]

Proposed Flood Elevation Determinations

AGENCY: Federal Emergency Management Agency (FEMA).

ACTION: Proposed rule.

SUMMARY: Technical information or comments are requested on the proposed base (1% annual chance) flood elevations and proposed base flood elevation modifications for the communities listed below. The base flood elevations and modified base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Associate Director for Mitigation certifies that this proposed rule is exempt from the requirements of the Regulatory Flexibility Act because proposed or modified base flood elevations are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

State | City/town/county | Source of flooding | Location | #Depth in feet above ground. *Elevation in feet. (NGVD): Existing | #Depth in feet above ground. *Elevation in feet. (NGVD): Modified
Arkansas | Little Rock (City) (Pulaski County) | Fourche Creek | At confluence with Arkansas River | *249 | *249
|  |  | Just downstream of Frazier Pike | *253 | *254
|  |  | Just downstream of State Highway 67/70 (Northbound University Avenue) | *257 | *258
|  | Fourche Bayou | Approximately 1,000 feet downstream of Frazier Pike | None | *240
|  | Grassy Flat Creek | At confluence with Rock Creek | *331 | *330
|  |  | Just downstream of Reservoir Road | *369 | *367
|  |  | Approximately 300 feet upstream of Rocky Valley Drive | None | *481
|  | Little Maumelle River | Approximately 1.2 miles upstream of confluence with Arkansas River | *262 | *263
|  | Rock Creek | At confluence with Fourche Creek | *258 | *258
|  |  | Approximately 200 feet upstream of Barrow Road | *332 | *333
Maps are available for inspection at the City of Little Rock Department of Public Works, 701 West Markham Street, Little Rock, Arkansas.
Send comments to The Honorable Jim Dailey, Mayor, City of Little Rock, 500 West Markham Street, Room 203, Little Rock, Arkansas 72201.
Arkansas | Pulaski County (Unincorporated Areas) | Fourche Creek | Approximately 200 feet Downstream of Airport Road | *253 | *253
|  |  | Just upstream of Mabelvale Pike | *257 | *258
|  | Little Fourche Creek | Approximately 2,700 feet Upstream of West 65th Stream | *256 | *257
|  |  | Just downstream of Geyer Springs Road | *268 | *267
|  | Rock Creek | Just upstream of Kanis Road Approximately 1,300 feet | *466 | *467
|  |  | Upstream of Kanis Road | *489 | *493
|  | Rock Creek Tributary A | At confluence with Rock Creek | None | *479
|  |  | Approximately 2,600 feet Upstream of Chenal Valley Parkway | None | *538
Maps are available at the Pulaski County Planning Department, 201 South Broadway, Room 370, Little Rock, Arkansas.
Send comments to The Honorable Floyd Villines, Pulaski County Judge, 201 South Broadway, Little Rock, Arkansas 72201.
South Dakota | Day County and Incorporated Areas | Bitter Lake | Along entire shoreline | None | *1,810
|  | Blue Dog Lake | Along entire shoreline | None | *1,810
|  | Foldager Slough | Along entire shoreline | None | *1,810
|  | Goose Lake | Along entire shoreline | None | *1,810
|  | Hillebrands Lake | Along entire shoreline | None | *1,810
|  | Little Rush Lake | Along entire shoreline | None | *1,810
|  | Minnewasta Lake | Along entire shoreline | None | *1,810
|  | Rush Lake | Along entire shoreline | None | *1,810
|  | Solomon Slough | Along entire shoreline | None | *1,810
|  | South Waubay Lake | Along entire shoreline | None | *1,810
|  | Spring Lake | Along entire shoreline | None | *1,810
|  | Swan Pond | Along entire shoreline | None | *1,810
|  | Waubay Lake | Along entire shoreline | None | *1,810
Maps for the Cities of Waubay and Webster, the Town of Grenville and the unincorporated areas of Day County are available for inspection at the Day County Zoning Administration office, County Courthouse, 711 West First Street, Webster, South Dakota.
Send comments to The Honorable Kevin Jens, Mayor, City of Waubay, c/o Ms. Sheryl Town, Finance Officer, PO Box 155, Waubay, South Dakota 57273-0155.
Send comments to The Honorable Mike Grosek, Mayor, City of Webster, PO Box 543, Webster, South Dakota 57274.
Send comments to The Honorable Tom Aldentower, Mayor, Town of Grenville, c/o Ms. Janet Knapp, 711 West First Street, Webster, South Dakota 57274.
Send comments to The Honorable Darrell Hildebrant, Chairman, Day County Board of Commissioners, Day County Courthouse, 711 West First Street, Webster, South Dakota 57274.

(Catalog of Federal Domestic Assistance No. 83.100, “Flood Insurance.”)
Dated: April 2, 2001.
Margaret E. Lawless,
Acting Executive Associate Director for Mitigation.

[FR Doc. 01-8621 Filed 4-6-01; 8:45 am]

BILLING CODE 6718-04-P